DEPARTMENT OF COMMERCE

International Trade Administration

[C-351-861, C-834-813, C-557-829]

Ferrosilicon From Brazil, Kazakhstan, and Malaysia: Postponement of Preliminary Determinations in the Countervailing Duty Investigations

AGENCY: Enforcement and Compliance, International Trade Administration, Department of Commerce.

DATES: Applicable May 30, 2024.

FOR FURTHER INFORMATION CONTACT: Bob Palmer or Laurel Smalley (Brazil), Peter Shaw (Kazakhstan), and Suresh Maniam (Malaysia), AD/CVD Operations, Offices I, VII, and VIII, Enforcement and Compliance, International Trade Administration, U.S. Department of Commerce, 1401 Constitution Avenue NW, Washington, DC 20230; telephone: (202) 482-9068, (202) 482-3456, (202) 482-0697, or (202) 482-1603, respectively.

SUPPLEMENTARY INFORMATION:

Background

On April 17, 2024, the U.S. Department of Commerce (Commerce) initiated countervailing duty (CVD) investigations of imports of ferrosilicon from Brazil, Kazakhstan, Malaysia and the Russian Federation (Russia).¹ Currently, the preliminary determinations are due no later than June 21, 2024.

¹ See Ferrosilicon from Brazil, Kazakhstan, Malaysia, and the Russian Federation: Initiation of Countervailing Duty Investigations, 89 FR 31133 (April 24, 2024).

Postponement of Preliminary Determinations

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 17, 2024, the petitioners ² submitted a timely request that Commerce postpone the preliminary CVD determinations with respect to Brazil, Kazakhstan, and Malaysia.³ The petitioners stated that they request postponement because, due to the number and nature of the subsidy programs, the normal 65-day deadline for the preliminary determinations would not provide sufficient time for Commerce to adequately examine the amount of subsidies that producers and exporters of subject merchandise in Brazil, Kazakhstan, and Malaysia may have received.⁴

² The petitioners are CC Metals and Alloys, LLC and Ferroglobe USA, Inc.

³ See Petitioners' Letter, “Petitioner's Request to Postpone the Deadline for the Preliminary Determination,” dated May 17, 2024. The petitioners did not request a postponement of the CVD investigation with respect to ferrosilicon from Russia.

⁴ Id. at 2.

In accordance with 19 CFR 351.205(e), the petitioners stated the reasons for requesting a postponement of the preliminary determination, and Commerce finds no compelling reason to deny the request. Therefore, in accordance with section 703(c)(1)(A) of the Act, Commerce is postponing the deadline for the preliminary determinations to no later than 130 days after the date on which these investigations were initiated, i.e., August 26, 2024.⁵ Pursuant to section 705(a)(1) of the Act and 19 CFR 351.210(b)(1), the deadline for the final determinations of these investigations will continue to be 75 days after the date of the preliminary determinations.

⁵ Postponing the preliminary determination to 130 days after initiation would place the deadline on Sunday, August 25, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 23, 2024.
Ryan Majerus,
Deputy Assistant Secretary for Policy and Negotiations, performing the non-exclusive functions and duties of the Assistant Secretary for Enforcement and Compliance.

[FR Doc. 2024-11908 Filed 5-29-24; 8:45 am]

BILLING CODE 3510-DS-P